ENVIRONMENTAL PROTECTION AGENCY

[EPA-R09-OAR-2008-0728; FRL-8905-2]

Adequacy Status of Motor Vehicle Emissions Budgets in Submitted Early Progress Plan for Clark County 8-hour Ozone for Transportation Conformity Purposes; Nevada

AGENCY: Environmental Protection Agency (EPA).

ACTION: Notice of Adequacy.

SUMMARY: In this notice, EPA is notifying the public that the Agency has found that the motor vehicle emissions budgets for 8-hour ozone in the 8-hour Ozone Early Progress Plan for Clark County, Nevada (June 2008) (“Clark County Ozone EPP”) are adequate for transportation conformity purposes. The Clark County Ozone EPP was submitted to EPA on July 28, 2008 by the Nevada Division of Environmental Protection (NDEP) as a revision to the Nevada State Implementation Plan (SIP). As a result of our adequacy findings, the Southern Nevada Regional Transportation Commission (RTC) and the U.S. Department of Transportation must use these budgets in future transportation conformity analyses once the finding becomes effective.

DATES: This finding is effective May 29, 2009.

FOR FURTHER INFORMATION CONTACT: Karina O'Connor, U.S. EPA, Region IX, Air Division AIR-2, 75 Hawthorne Street, San Francisco, CA 94105-3901; (775) 833-1276 or oconnor.karina@epa.gov.

SUPPLEMENTARY INFORMATION: Throughout this document, whenever “we,” “us,” or “our” is used, we mean EPA.

Today's notice is simply an announcement of a finding that we have already made. EPA Region IX sent a letter to NDEP on May 5, 2009 stating that the motor vehicle emissions budgets in the submitted Clark County Ozone EPP for the year 2008 are adequate. Receipt of the motor vehicle emissions budgets in the Clark County Ozone EPP was announced on EPA's transportation conformity Web site on August 19, 2008. We received no comments in response to the adequacy review posting. The finding is available at EPA's conformity Web site: http://www.epa.gov/otaq/stateresources/transconf/adequacy.htm.

The adequate motor vehicle emissions budgets are provided in the following table:

Motor vehicle emissions budgets (Ozone season): Budget year | Motor vehicle emissions budgets (Ozone season): Volatile organic compounds (tons per day) | Motor vehicle emissions budgets (Ozone season): Nitrogen oxides (tons per day)
2008 | 64.2 | 76.1

Transportation conformity is required by Clean Air Act section 176(c). EPA's conformity rule requires that transportation plans, transportation improvement programs, and projects conform to state air quality implementation plans (SIPs) and establishes the criteria and procedures for determining whether or not they do. Conformity to an SIP means that transportation activities will not produce new air quality violations, worsen existing violations, or delay timely attainment of the national ambient air quality standards.

The criteria by which we determine whether an SIP's motor vehicle emission budgets are adequate for conformity purposes are outlined in 40 CFR 93.118(e)(4) which was promulgated in our August 15, 1997 final rule (62 FR 43780, 43781-43783). We have described our process for determining the adequacy of submitted SIP budgets in our July 1, 2004 preamble starting at 69 FR 40038 and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: May 5, 2009.
Laura Yoshii,
Acting Regional Administrator, Region IX.

[FR Doc. E9-11278 Filed 5-13-09; 8:45 am]

BILLING CODE 6560-50-P